DEPARTMENT OF ENERGY

Federal Energy Regulatory Commission

Combined Notice of Filings #2

Take notice that the Commission received the following electric corporate filings:

Docket Numbers: [ER10-1951-049; ER10-1970-026; ER10-1972-026; ER10-1973-018; ER10-1974-029; ER10-1975-030; ER10-2641-043; ER11-2192-020; ER11-2365-009; ER11-4462-071; ER11-4677-024; ER12-676-020; ER12-2444-023; ER13-2461-021; ER14-21-014; ER14-2708-025; ER14-2709-024; ER14-2710-024; ER15-30-022; ER15-58-022; ER15-1016-017; ER15-2243-015; ER16-1440-018; ER16-1913-011; ER16-2240-018; ER16-2241-017; ER16-2297-018; ER16-2443-014; ER16-2506-019; ER17-196-009; ER17-838-046; ER17-1774-008; ER18-772-009; ER18-807-010; ER18-1535-009; ER18-1981-013; ER18-2224-017; ER18-2314-009; ER19-11-008; ER19-1128-007; ER19-2266-007; ER20-792-007; ER20-1219-005; ER20-1220-008; ER20-1417-006; ER20-1879-009; ER20-1985-005; ER20-1988-006; ER20-1991-007; ER20-2012-005; ER20-2153-007; ER20-2380-006; ER20-2603-007; ER20-2648-006; ER21-183-005; ER21-1506-005; ER21-1532-004; ER21-1880-003; ER21-2048-005; ER21-2100-005; ER21-2641-004; ER22-96-003].

Applicants: Route 66 Solar Energy Center, LLC, Quinebaug Solar, LLC, Point Beach Solar, LLC, Sac County Wind, LLC, Niyol Wind, LLC, Quitman II Solar, LLC, Shaw Creek Solar, LLC, Nutmeg Solar, LLC, Northern Divide Wind, LLC, Skeleton Creek Wind, LLC, Saint Solar, LLC, Sanford Airport Solar, LLC, Orbit Bloom Energy, LLC, Ponderosa Wind, LLC, Northern Colorado Wind Energy Center II, LLC, Northern Colorado Wind Energy Center, LLC, Oliver Wind I, LLC, Roundhouse Renewable Energy, LLC, Oliver Wind Center II, LLC, Peetz Table Wind, LLC, Oklahoma Wind, LLC, Quitman Solar, LLC, Rush Springs Energy Storage, LLC, Peetz Logan Interconnect, LLC, Sholes Wind, LLC, Pegasus Wind, LLC, Pratt Wind, LLC, Montauk Energy Storage Center, LLC, Pinal Central Energy Center, LLC, New Mexico Wind, LLC, NextEra Energy Bluff Point, LLC, NextEra Energy Marketing, LLC, Pima Energy Storage System, LLC, Oliver Wind III, LLC, NextEra Blythe Solar Energy Center, LLC, Osborn Wind Energy, LLC, Ninnescah Wind Energy, LLC, Rush Springs Wind Energy, LLC, River Bend Solar, LLC, Roswell Solar, LLC, Silver State Solar Power South, LLC, Shafter Solar, LLC, Palo Duro Wind Interconnection Services, LLC, Seiling Wind Interconnection Services, LLC, Palo Duro Wind Energy, LLC, Seiling Wind II, LLC, Seiling Wind, LLC, Mountain View Solar, LLC, Pheasant Run Wind, LLC, North Sky River Energy, LLC, Perrin Ranch Wind, LLC, NextEra Energy Montezuma II Wind, LLC, NEPM II, LLC, Paradise Solar Urban Renewal, L.L.C., Red Mesa Wind, LLC, Oleander Power Project, Limited Partnership, Sayreville Power Generation LP.

Description: Notice of Change in Status of NextEra Energy Services Massachusetts, LLC, Part 3 of 4, et al.

Filed Date: 10/31/22.

Accession Number: 20221031-5405.

Comment Date: 5 p.m. ET 11/21/22.

Docket Numbers: ER10-2078-025; ER11-4678-023; ER12-631-024; ER12-1660-026; ER13-2458-021; ER13-2474-023; ER16-1277-014; ER16-1293-014; ER17-582-015; ER17-583-015; ER17-2270-018; ER18-2032-013; ER18-2091-010; ER19-774-009; ER19-1076-008; ER19-2382-010; ER19-2495-009; ER19-2513-009; ER20-637-007; ER20-780-007; ER20-2070-005; ER20-2237-007; ER20-2597-007; ER20-2622-006; ER21-255-006; ER21-744-004; ER21-1580-005; ER21-1813-007; ER21-1814-007; ER21-2109-003; ER22-1370-004; ER22-1870-001; ER22-2601-001; ER22-2824-001.

Applicants: Yellow Pine Solar, LLC, Walleye Wind, LLC, Vansycle II Wind, LLC, Sunlight Storage, LLC, Wheatridge Solar Energy Center, LLC, Yellow Pine Energy Center II, LLC, Yellow Pine Energy Center I, LLC, Sky River Wind, LLC, Wallingford Renewable Energy LLC, Taylor Creek Solar, LLC, Wilmot Energy Center, LLC, Soldier Creek Wind, LLC, Weatherford Wind, LLC, Wheatridge Wind II, LLC, Sooner Wind, LLC, Wilton Wind Energy I, LLC, Wilton Wind Energy II, LLC, Wessington Springs Wind, LLC, Story County Wind, LLC, Windstar Energy, LLC, Stanton Clean Energy, LLC, Titan Solar, LLC, Wildcat Ranch Wind Project, LLC, Stuttgart Solar, LLC, Whitney Point Solar, LLC, Westside Solar, LLC, White Oak Solar, LLC, White Pine Solar, LLC, Steele Flats Wind Project, LLC, Tuscola Wind II, LLC, Tuscola Bay Wind, LLC, Windpower Partners 1993, LLC, Vasco Winds, LLC, White Oak Energy LLC.

Description: Notice of Change in Status of White Oak Energy LLC, Part 4 of 4 et al.

Filed Date: 10/31/22.

Accession Number: 20221031-5398.

Comment Date: 5 p.m. ET 11/21/22.

Docket Numbers: ER11-4462-072; ER10-1951-050; ER13-2474-024; ER14-2708-026; ER14-2709-025; ER14-2710-025; ER15-30-023; ER15-58-023; ER16-1440-019; ER16-2240-019; ER16-2241-018; ER16-2297-019; ER17-838-047; ER18-1981-014; ER18-2032-014; ER18-2314-010; ER19-1128-008; ER19-2495-010; ER19-2513-010; ER20-637-008; ER20-780-008; ER20-792-008; ER20-1991-008; ER20-2237-008; ER20-2597-008; ER20-2603-008; ER20-2648-007.

Applicants: Wilton Wind Energy II, LLC, Wilton Wind Energy I, LLC, Wildcat Ranch Wind Project, LLC, Wessington Springs Wind, LLC, Weatherford Wind, LLC, Steele Flats Wind Project, LLC, Soldier Creek Wind, LLC, Sooner Wind, LLC, Skeleton Creek Wind, LLC, Sholes Wind, LLC, Seiling Wind, LLC, Seiling Wind Interconnection Services, LLC, Seiling Wind II, LLC, Rush Springs Wind Energy, LLC, Rush Springs Energy Storage, LLC, Roswell Solar, LLC, Pratt Wind, LLC, Ponderosa Wind, LLC, Palo Duro Wind Interconnection Services, LLC, Palo Duro Wind Energy, LLC, Osborn Wind Energy, LLC, Oklahoma Wind, LLC, Northern Divide Wind, LLC, Ninnescah Wind Energy, LLC, NextEra Energy Services Massachusetts, LLC, NextEra Energy Marketing, LLC, NEPM II, LLC.

Description: Notice of Change in Status of Elk City Wind, LLC, Part 2 of 2, et al.

Filed Date: 10/31/22.

Accession Number: 20221031-5406.

Comment Date: 5 p.m. ET 11/21/22.

Docket Numbers: ER12-1821-004.

Applicants: Colorado Highlands Wind, LLC.

Description: Notice of Change in Status of Colorado Highlands Wind, LLC.

Filed Date: 11/1/22.

Accession Number: 20221101-5253.

Comment Date: 5 p.m. ET 11/22/22.

Docket Numbers: ER13-172-002; ER20-134-001; ER18-1777-004; ER10-1342-006.

Applicants: CP Energy Marketing (US) Inc., Meadowlark Wind I LLC, Cardinal Point LLC, Midland Cogeneration Venture Limited Partnership.

Description: Notice of Change in Status, Tariff Amendments, and Request for Waiver of Midland Cogeneration Venture Limited Partnership.

Filed Date: 10/31/22.

Accession Number: 20221031-5399.

Comment Date: 5 p.m. ET 11/21/22.

Docket Numbers: ER20-2019-007; ER11-2642-023; ER10-1849-029; ER10-1852-072; ER12-895-028; ER12-1228-030; ER13-712-031; ER14-2707-025; ER15-1925-023; ER15-2676-022; ER16-1672-020; ER16-2190-019; ER16-2191-019; ER16-2275-018; ER16-2276-018; ER16-2453-020; ER17-2152-016; ER18-882-015; ER18-1863-013; ER18-2003-014; ER18-2066-009; ER18-2118-015; ER18-2182-015; ER20-1907-007; ER20-1986-006; ER20-2064-008; ER21-1990-005; ER21-2117-006; ER21-2149-006; ER21-2225-006; ER21-2296-006; ER21-2699-007; ER22-1982-002.

Applicants: Great Prairie Wind, LLC, Minco Wind Energy III, LLC, Ensign Wind Energy, LLC, Irish Creek Wind, LLC, Minco Wind Energy II, LLC, Little Blue Wind Project, LLC, Blackwell Wind Energy, LLC, High Majestic Wind I, LLC, Day County Wind I, LLC, Minco Wind I, LLC, Minco IV & V Interconnection, LLC, Armadillo Flats Wind Project, LLC, Minco Wind IV, LLC, Lorenzo Wind, LLC, Coolidge Solar I, LLC, Elk City Renewables II, LLC, Cottonwood Wind Project, LLC, Brady Interconnection, LLC, Kingman Wind Energy II, LLC, Kingman Wind Energy I, LLC, Brady Wind II, LLC, Brady Wind, LLC, Chaves County Solar, LLC, Cedar Bluff Wind, LLC, Breckinridge Wind Project, LLC, Mammoth Plains Wind Project, LLC, Cimarron Wind Energy, LLC, High Majestic Wind II, LLC, Minco Wind Interconnection Services, LLC, Florida Power & Light Company, Elk City Wind, LLC,FPL Energy South Dakota Wind, LLC, Gray County Wind, LLC.

Description: Notice of Change in Status of Elk City Wind, LLC, Part 1 of 2, et al.

Filed Date: 10/31/22.

Accession Number: 20221031-5404.

Comment Date: 5 p.m. ET 11/21/22.

Docket Numbers: ER22-2953-001.

Applicants: Public Service Company of New Hampshire, ISO New England Inc.

Description: Tariff Amendment: ISO New England Inc. submits tariff filing per 35.17(b): Establishment of Depreciation Rate for Accts 357 and 358 in App D-PSNH to Att F to be effective 1/1/2023.

Filed Date: 11/2/22.

Accession Number: 20221102-5131.

Comment Date: 5 p.m. ET 11/23/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 2, 2022.
Debbie-Anne A. Reese,
Deputy Secretary.

[FR Doc. 2022-24331 Filed 11-7-22; 8:45 am]

BILLING CODE 6717-01-P